ENVIRONMENTAL PROTECTION AGENCY

[EPA-HQ-OAR-2020-0657; FRL-13136-01-OMS]

Agency Information Collection Activities; Submission to the Office of Management and Budget for Review and Approval; Comment Request; NSPS for Kraft Pulp Mills (Renewal)

AGENCY: Environmental Protection Agency (EPA).

ACTION: Notice.

SUMMARY: The Environmental Protection Agency (EPA) has submitted an information collection request (ICR), NSPS for Kraft Pulp Mills (EPA ICR Number 1055.14, OMB Control Number 2060-0021) to the Office of Management and Budget (OMB) for review and approval in accordance with the Paperwork Reduction Act. This is a proposed extension of the ICR, which is currently approved through December 31, 2025. Public comments were previously requested via the Federal Register on August 6, 2024 during a 60-day comment period. This notice allows for an additional 30 days for public comments.

DATES: Comments may be submitted on or before January 29, 2026.

ADDRESSES: Submit your comments, referencing Docket ID Number EPA-HQ-OAR-2020-0657, to EPA online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through December 31, 2025. An agency may not conduct or sponsor and a person is not required to respond to a collection of information unless it displays a currently valid OMB control number.

Public comments were previously requested via the Federal Register on August 8, 2024 during a 60-day comment period (89 FR 63933). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The New Source Performance Standards (NSPS) for the regulations published at 40 CFR part 60, subpart BB were proposed on September 24, 1976, promulgated on February 23, 1978, and amended on April 4, 2014. These regulations apply to the following facilities at existing kraft pulp mills that commenced construction, reconstruction, or modification after September 24, 1976 and on or before May 23, 2013: recovery furnaces, smelt dissolving tanks, lime kilns, digester systems, brown stock washer systems, black liquor oxidation systems, multiple effect evaporator systems and condensate stripper systems. In pulp mills where kraft pulping is combined with neutral sulfite semi-chemical pulping, the provisions of this subpart are applicable when any portion of the material charged to an affected facility is produced by the kraft pulping operation. This information is being collected to assure compliance with 40 CFR part 60, subpart BB. New facilities that commenced construction, modification or reconstruction after May 23, 2013 are subject to regulation under 40 CFR part 60 subpart BBa.

In general, all NSPS standards require initial notifications, performance tests, and periodic reports by the owners/operators of the affected facilities. They are also required to maintain records of the occurrence and duration of any startup, shutdown, or malfunction in the operation of an affected facility, or any period during which the monitoring system is inoperative. These notifications, reports, and records are essential.

Form numbers: None.

Respondents/affected entities: Kraft pulp mills.

Respondent's obligation to respond: Mandatory (40 CFR part 60, subpart BB).

Estimated number of respondents: 85 (total).

Frequency of response: Initially, semiannually, annually.

Total estimated burden: 12,100 hours (per year). Burden is defined at 5 CFR 1320.3(b).

Total estimated cost: $6,360,000 (per year), includes $4,700,000 annualized capital or operation & maintenance costs.

Changes in the estimates: The adjustment decrease in burden from the most recently approved ICR is due to a decrease in the number of sources because of recent known facility closures. There is a slight increase in the operation and maintenance (O&M) costs due to O&M costs being updated from $2009 to $2023 using the CEPCI Index. There are no capital costs associated with this information collection.

Courtney Kerwin,
Director, Regulatory Support Division.

[FR Doc. 2025-23966 Filed 12-29-25; 8:45 am]

BILLING CODE 6560-50-P